COMMISSION ON CIVIL RIGHTS

Notice of Public Meeting of the Kentucky Advisory Committee

AGENCY: U.S. Commission on Civil Rights.

ACTION: Notice of meeting.

SUMMARY: Notice is hereby given, pursuant to the provisions of the rules and regulations of the U.S. Commission on Civil Rights (Commission) and the Federal Advisory Committee Act that the Kentucky (State) Advisory Committee will hold a meeting on Thursday August 23, 2018, for continuing committee discussion of project proposal topic.

DATES: The meeting will be held on Thursday August 23, 2018 at 1:00 (EST).

Public Call Information: The meeting will be by teleconference. Toll-free call-in number: 1-855-710-4182, conference ID: 8689555.

FOR FURTHER INFORMATION CONTACT: Jeff Hinton, DFO, at jhinton@usccr.gov.

SUPPLEMENTARY INFORMATION: Members of the public can listen to the discussion. This meeting is available to the public through the following toll-free call-in number: 1-855-710-4182, conference ID: 8689555. Any interested member of the public may call this number and listen to the meeting. Callers can expect to incur charges for calls they initiate over wireless lines, and the Commission will not refund any incurred charges. Callers will incur no charge for calls they initiate over land-line connections to the toll-free telephone number. Persons with hearing impairments may also follow the proceedings by first calling the Federal Relay Service at 1-800-977-8339 and providing the Service with the conference call number and conference ID number.

Members of the public are also entitled to submit written comments; the comments must be received in the regional office by May 14, 2018. Written comments may be emailed to the Southern Region, U.S. Commission on Civil Rights to the Regional Director, Jeffrey Hinton at jhinton@usccr.gov. Persons who desire additional information may contact the Regional Programs Division at (312) 353-8312.

Records generated from this meeting may be inspected and reproduced at the Southern Regional Office, as they become available, both before and after the meeting. Records of the meeting will be available via www.facadatabase.gov under the Commission on Civil Rights, Kentucky Advisory Committee link. Persons interested in the work of this Committee are directed to the Commission's website, http://www.usccr.gov, or may contact the Southern Regional representative at the above email.

Agenda

Welcome and attendance of advisory committee members

Dr. Betty Griffin, Chairman/Jeff Hinton, Regional Director, USCCRSRO

Kentucky Advisory Committee update/discussion of project proposal topics

Dr. Betty Griffin, Chairman, Advisory Committee

Open Comment

Advisory Committee

Public Participation

Adjournment

Dated: July 26, 2018.
David Mussatt,
Supervisory Chief, Regional Programs Unit.

[FR Doc. 2018-16332 Filed 8-8-18; 8:45 am]

BILLING CODE P